DEPARTMENT OF JUSTICE

Drug Enforcement Administration

Chanelle D. Remien, DVM; Decision and Order

On March 1, 2021, the Drug Enforcement Administration (DEA or Government) issued an Order to Show Cause (OSC) to Chanelle D. Remien, DVM, of East Wenatchee, Washington (Applicant). Request for Final Agency Action (RFAA), Exhibit (RFAAX) 2, at 1, 3. The OSC proposed the denial of Applicant's pending application for DEA Certificate of Registration No. W17076337C,¹ alleging that Applicant's application should be denied because Applicant is “currently without authority to handle controlled substances in Washington, the state in which [she has] applied to be registered with DEA.” Id. at 2 (citing 21 U.S.C. 824(a)(3)).

¹ The OSC does not specify the Certificate of Registration number for Applicant's application, but the Government's RFAA references the number throughout.

The OSC notified Applicant of her right to file a written request for hearing, and that if she failed to file such a request, she would be deemed to have waived her right to a hearing and be in default. Id. at 2 (citing 21 CFR 1301.43). Here, Applicant did not request a hearing. RFAA, at 2.² “A default, unless excused, shall be deemed to constitute a waiver of the registrant's/applicant's right to a hearing and an admission of the factual allegations of the [OSC].” 21 CFR 1301.43(e).

² Based on the Government's submissions in its RFAA dated March 24, 2025, the Agency finds that service of the OSC on Applicant was adequate. The included declaration from a DEA Diversion Investigator (DI 2) indicates that on March 11, 2021, the DI previously assigned to this matter mailed a copy of the OSC to Applicant's registered address through FedEx. RFAAX 3, at 3; see also RFAAX 3, Attachment E. On August 26, 2024, DI 2 contacted FedEx to ensure service of the OSC. RFAAX 3, at 3. DI 2 states in the Declaration that a FedEx customer service representative told DI 2 on this date that FedEx had a “[s]ignature release on file,” thus confirming delivery of the OSC to Applicant to her registered address. Id. at 4; see also id., Attachment H.

Further, “[i]n the event that a registrant . . . is deemed to be in default . . . DEA may then file a request for final agency action with the Administrator, along with a record to support its request. In such circumstances, the Administrator may enter a default final order pursuant to [21 CFR] 1316.67.” Id. 1301.43(f)(1). Here, the Government has requested final agency action based on Applicant's default pursuant to 21 CFR 1301.43(d), (e), 1301.46. RFAA, at 4; see also 21 CFR 1316.67.

Findings of Fact

The Agency finds that, in light of Applicant's default, the factual allegations in the OSC are deemed admitted. According to the OSC, on November 25, 2020, the Washington State Department of Health, Veterinary Board of Governors suspended Applicant's Washington veterinary license. RFAAX 2, at 2.

According to Washington online records, of which the Agency takes official notice,³ Applicant's Washington veterinary license remains suspended. Washington State Department of Health Provider Credential Search, https://fortress.wa.gov/doh/providercredentialsearch (last visited date of signature of this Order). Accordingly, the Agency finds that Applicant is not licensed to practice veterinary medicine in Washington, the state in which she has applied to be registered with DEA.⁴

³ Under the Administrative Procedure Act, an agency “may take official notice of facts at any stage in a proceeding—even in the final decision.” United States Department of Justice, Attorney General's Manual on the Administrative Procedure Act 80 (1947) (Wm. W. Gaunt & Sons, Inc., Reprint 1979).

⁴ Pursuant to 5 U.S.C. 556(e), “[w]hen an agency decision rests on official notice of a material fact not appearing in the evidence in the record, a party is entitled, on timely request, to an opportunity to show the contrary.” The material fact here is that Applicant, as of the date of this decision, is not licensed to practice veterinary medicine in Washington. Accordingly, Applicant may dispute the Agency's finding by filing a properly supported motion for reconsideration of findings of fact within fifteen calendar days of the date of this Order. Any such motion and response shall be filed and served by email to the other party and to the DEA Office of the Administrator, Drug Enforcement Administration, at dea.addo.attorneys@dea.gov.

Discussion

Pursuant to 21 U.S.C. 824(a)(3), the Attorney General may suspend or revoke a registration issued under 21 U.S.C. 823 “upon a finding that the registrant . . . has had his State license or registration suspended . . . [or] revoked . . . by competent State authority and is no longer authorized by State law to engage in the . . . dispensing of controlled substances.” With respect to a practitioner, DEA has also long held that the possession of authority to dispense controlled substances under the laws of the state in which a practitioner engages in professional practice is a fundamental condition for obtaining and maintaining a practitioner's registration. Gonzales v. Oregon, 546 U.S. 243, 270 (2006) (“The Attorney General can register a physician to dispense controlled substances `if the applicant is authorized to dispense . . . controlled substances under the laws of the State in which he practices.' . . . The very definition of a `practitioner' eligible to prescribe includes physicians `licensed, registered, or otherwise permitted, by the United States or the jurisdiction in which he practices' to dispense controlled substances. § 802(21).”). The Agency has applied these principles consistently. See, e.g., James L. Hooper, M.D., 76 FR 71,371, 71,372 (2011), pet. for rev. denied, 481 F. App'x 826 (4th Cir. 2012); Frederick Marsh Blanton, M.D., 43 FR 27,616, 27,617 (1978).⁵

⁵ This rule derives from the text of two provisions of the Controlled Substances Act (CSA). First, Congress defined the term “practitioner” to mean “a physician . . . or other person licensed, registered, or otherwise permitted, by . . . the jurisdiction in which he practices . . . . to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess state authority in order to be deemed a practitioner under the CSA, DEA has held repeatedly that revocation of a practitioner's registration is the appropriate sanction whenever he is no longer authorized to dispense controlled substances under the laws of the state in which he practices. See, e.g., James L. Hooper, M.D., 76 FR at 71,371-72; Sheran Arden Yeates, M.D., 71 FR 39,130, 39,131 (2006); Dominick A. Ricci, M.D., 58 FR 51,104, 51,105 (1993); Bobby Watts, M.D., 53 FR 11,919, 11,920 (1988); Frederick Marsh Blanton, M.D., 43 FR at 27,617.

According to Washington statute, “[a] practitioner may dispense or deliver a controlled substance to or for an individual or animal only for medical treatment or authorized research in the ordinary course of that practitioner's profession.” Wash. Rev. Code § 69.50.308(j) (2025). Further, a “prescription” means “an order for controlled substances issued by a practitioner duly authorized by law or rule in the state of Washington to prescribe controlled substances within the scope of his or her professional practice for a legitimate medical purpose.” Id. § 69.50.101(41). Finally, a “practitioner” as defined by Washington statute includes “[a] veterinarian licensed to practice veterinary medicine.” Id. § 69.50.101(40)(c).

Here, the undisputed evidence in the record is that Applicant lacks authority to practice veterinary medicine in Washington. As already discussed, an individual must be a licensed practitioner to dispense a controlled substance in Washington. Thus, because Applicant lacks authority to practice veterinary medicine in Washington and, therefore, is not authorized to handle controlled substances in Washington, Applicant is not eligible to obtain or maintain a DEA registration in Washington. Accordingly, the Agency will order that Applicant's application for DEA registration be denied.

Order

Pursuant to 28 CFR 0.100(b) and the authority vested in me by 21 U.S.C. 823(g)(1), I hereby deny the pending application for a Certificate of Registration, Control No. W17076337C, submitted by Chanelle D. Remien, DVM, as well as any other pending application of Chanelle D. Remien, DVM, for additional registration in Washington. This Order is effective October 14. 2025.

Signing Authority

This document of the Drug Enforcement Administration was signed on September 4, 2025, by Administrator Terrance Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-17487 Filed 9-10-25; 8:45 am]

BILLING CODE 4410-09-P